DEPARTMENT OF TRANSPORTATION

Federal Railroad Administration

[Docket No. FRA-2023-0002-N-21]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 10, 2023.

ADDRESSES: Written comments and recommendations for the proposed ICR should be submitted on regulations.gov to the docket, Docket No. FRA-2023-0002. All comments received will be posted without change to the docket, including any personal information provided. Please refer to the assigned OMB control number for each ICR, 2130-0545 and 2130-0576, respectively, in any correspondence submitted. FRA will summarize comments received in response to this notice in a subsequent notice, made available to the public, and include them in its information collection submission to OMB for approval.

FOR FURTHER INFORMATION CONTACT: Ms. Joanne Swafford, Information Collection Clearance Officer, at email: joanne.swafford@dot.gov or telephone: (757) 897-9908, or Ms. Arlette Mussington, Information Collection Clearance Officer, at email: arlette.mussington@dot.gov or telephone: (571) 609-1285.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICRs that FRA will submit for OMB clearance as the PRA requires:

Title: Passenger Train Emergency Procedures.

OMB Control Number: 2130-0545.

Abstract: The railroad passenger train emergency preparedness regulations under 49 CFR part 239, set forth FRA's requirements for railroads to meet Federal standards for the preparation, adoption, and implementation of emergency preparedness plans connected with the operation of passenger trains, including freight railroads hosting passenger rail service operations. Part 239 also requires each affected railroad to instruct its employees on the provisions of its plan. The information collected is necessary for compliance with the regulation.

In this 60-day notice, FRA made adjustments that increased the previously approved burden hours from 350 hours to 353 hours. This increase, after a thorough review, is the result of a more accurate estimate of the annual responses for debrief and critique sessions under § 239.105 and emergency preparedness plans under § 239.101/201/203.

Type of Request: Extension without change (with changes in estimates) of a currently approved collection.

Affected Public: Businesses.

Form(s): N/A.

Respondent Universe: 34 railroads.

Frequency of Submission: On occasion.

Reporting Burden:

CFR section | Respondent universe | Total annual responses | Average time per response | Total annual burden hours | Total cost equivalent
|  | (A) | (B) | (C = A * B) | (D = C * wage rates) ¹
239.13—Penalties | FRA anticipates that there will be zero falsified records or reports during this 3-year ICR.
239.13—Waivers | 34 railroads | 1 waiver petition | 10 hours | 10 hours | $859.30
239.101/201/203—Emergency preparedness plan: amended plans | 34 railroads | 6 amended plans | 16 hours | 96 hours | $8,249.28
—Non-substantive changes to emergency preparedness plan | 34 railroads | 6 amended plans | 1 hour | 6 hours | $515.58
—Emergency preparedness plans for new/start-up railroads | 34 railroads | 1 new plan | 80 hours | 80 hours | $6,874.40
239.101(a)(1)(i)—Communication—Initial and on-board notification | The requirement for initial on-board notification is routine and is covered by the economic cost.
—(a)(1)(ii) RR designation of employees responsible for maintaining emergency phone numbers for use in contacting outside emergency responders and appropriate RR officials that a passenger emergency has occurred | 34 railroads | 34 designations | 5 minutes | 2.80 hours | $240.60
—Commuter/intercity passenger RRs gathering/keeping emergency phone numbers | 34 railroads | 34 lists/updated records | 1 hour | 34 hours | $2,921.62
—(a)(3) Coordinating applicable portions of emergency preparedness plan between each railroad hosting passenger service and each railroad that provides or operates such service | The burden for this requirement is covered under § 239.101/201/203 —Emergency preparedness plan: amended plans.
—(a)(5) Updating emergency responder liaison information and conducting emergency simulation | The burden for this requirement is covered under § 239.101/201/203 —Emergency preparedness plan: amended plans.
—(a)(6)(iii)-(iv) On-board emergency lighting, Maintenance and marking of emergency exits | The burden for this requirement is covered under OMB Control No. 2130-0576, § 238.113 (d)(1-3) and § 238.112(d)(1-2).
—(a)(7) RR dissemination of information regarding emergency procedures/instructions | 1 new railroad | 350 cards + 1 safety messages | 5 minutes | 29.30 hours | $2,517.75
| 34 railroads | 1000 cards +100 safety messages | 5 minutes | 91.70 hours | $7,879.78
239.105—Debrief and critique sessions | 34 railroads | 39 debrief/critique sessions | 5 minutes | 3.30 hours | $283.57
239.301(b)(c)—Maintenance and retention of operational tests/inspection records | This burden is covered under OMB Control No. 2130-0035 under § 217.9(d)(1).
—(d) RR retention of 1 copy of operational testing & inspection program | This burden is covered under OMB Control No. 2130-0035 under § 217.9(d)(2).
—(e) RR six-month review of tests/inspections and adjustments to program of operational tests/inspections | This burden is covered under OMB Control No. 2130-0035 under § 217.9(e).
—(f) RR annual summary of tests/inspections & record of each summary | This burden is covered under OMB Control No. 2130-0035 under § 217.9(f).
Total | 34 railroads | 1,572 |  | 353 hours | ² $30,342

Total Estimated Annual Responses: 1,572.

¹ The dollar equivalent cost is derived from the 2022 Surface Transportation Board Full Year Wage A&B data series using the employee group 200 (Professional & Administrative) hourly wage rate of $49.10. The total burden wage rate (Straight time plus 75%) used in the table is $85.93 ($49.10 × 1.75 = $85.93).

² Totals may not add up due to rounding.

Total Estimated Annual Burden: 353 hours.

Total Estimated Annual Burden Hour Dollar Cost Equivalent: $30,342.

Title: Passenger Train Emergency Systems.

OMB Control Number: 2130-0576.

Abstract: This information collection is due to passenger train emergency systems regulations under 49 CFR part 238. The purpose of this part is to prevent collisions, derailments, and other occurrences involving railroad passenger equipment that cause injury or death to railroad employees, railroad passengers, or the general public, and to mitigate the consequences of such occurrences to the extent they cannot be prevented. FRA further added requirements for emergency passage through vestibule and other interior passageway doors and enhanced emergency egress and rescue signage requirements.³

³ 78 FR 71785 (Nov. 29, 2013).

FRA also established requirements for low-location emergency exit path markings to assist occupants in reaching and operating emergency exits, particularly under conditions of limited visibility. Moreover, FRA added standards to ensure emergency lighting systems are provided in all passenger cars and enhanced requirements for the survivability of emergency lighting systems in new passenger cars.

In this 60-day notice, FRA has made adjustments that decreased the burden hours from 859 hours in the current inventory to 755 hours in the requested inventory. This decrease is more in line with the anticipated annual reporting of legible markings and instruction in passenger cars under § 238.123(e).

Type of Request: Extension without change (with changes in estimates) of a currently approved collection.

Affected Public: Businesses (railroads).

Form(s): N/A.

Respondent Universe: 34 railroads.

Frequency of Submission: On occasion.

Reporting Burden:

⁴ Totals may not add due to rounding. The dollar equivalent cost is derived from the 2022 Surface Transportation Board Full Year Wage A&B data series using the employee group 200 (Professional & Administrative) hourly wage rate of $49.10. The total burden wage rate (Straight time plus 75%) used in the table is $85.93 ($49.10 × 1.75 = $85.93).

CFR Section | Respondent universe | Total annual responses | Average time per responses | Total annual burden hours | Total cost equivalent in U.S. dollar
|  | (A) | (B) | (C = A * B) | (D = C * wage rates) ⁴
238.112—Door emergency egress and rescue access systems: Markings, signage, instructions | 34 railroads | 2,250 markings/signs/instructions | 5 minutes | 187.50 hours | $16,111.88
—(e) Passenger car exterior doors intended for emergency access by responders marked with retro-reflective material and instructions provided for their use | 34 railroads | 2,250 exterior door markings | 5 minutes | 187.50 hours | $16,111.88
—(f)(5) Markings and instructions—interior doors/removable panels or windows | 34 railroads | 1,500 marked panels/windows | 5 minutes | 125.00 hours | $10,741.25
—(f)(6) Testing of car door removable panels, removable windows, manual override devices, & door retention mechanisms as part of periodic mechanical inspection. The sampling method must conform with a formalized statistical test method. | The burden for this requirement is covered under OMB Control No. 2130-0544 under § 238.307(e)(1).
238.113(d)—Emergency window exits—Markings/and instructions | 34 railroads | 60 window markings | 15 minutes | 15.00 hours | $1,288.95
—(e) Periodic Testing of representative sample of car emergency exit windows as part of periodic mechanical inspection. The sampling method must conform with a formalized statistical test method. | The paperwork burden for this requirement is covered under OMB Control No. 2130-0544 under § 238.307(e)(1).
238.114(d)—Rescue access windows—Markings with retro-reflective material on each exterior car | 34 railroads | 1,500 access window markings | 5 minutes | 125.00 hours | $10,741.25
238.121(b)—Emergency communications—Marking of each intercom intended for passenger use on new Tier I & Tier II passenger cars | 34 railroads | 375 marked intercom locations | 5 minutes | 31.25 hours | $2,685.31
238.123(e)—Marked emergency roof access locations | 34 railroads | 150 marked emergency roof access locations | 30 minutes | 75.00 hours | $6,444.75
238.303—Exterior calendar day mechanical inspection of passenger equipment: Replacement of missing, illegible, or inconspicuous markings, signage, & instructions | The burden for this requirement is covered under OMB Control No. 2130-0544 under § 238.303(e)(15).
—Record of Non-complying marking, signage, or instruction | The burden for this requirement is covered under OMB Control No. 2130-0544 under § 238.303(g).
238.305—Interior calendar day mechanical inspection of passenger cars: | The burden for this requirement is covered under OMB Control No. 2130-0544 under § 238.305.
—(c)(10), (12), and (13) Written notification to train crew of non-complying condition | 34 railroads | 250 notices | 2 minutes | 8.33 hours | $715.80
—(c)(13)(i) Written procedures for mitigating hazards of non-complying condition. | The burden for this requirement is covered under OMB Control No. 2130-0599 under § 270.103.
238.307—Records of inspection, testing, and maintenance of passenger car emergency window exits | The burden for this requirement is covered under OMB Control No. 2130-0544 under § 238.307(e)(1).
238.311—Single Car Test: RR Copy of American Public Transportation Association (APTA) Standard (SS-M-005-98) for RR Head Trainer | All the members have the option to obtain a copy of APTA's Standard on APTA's website for free.
—Other RR copies of APTA Standard | All the members have the option to obtain a copy of APTA's Standard on APTA's website for free.
Total | 34 railroads | 8,335 responses | NA | 755 hours | $64,841

Total Estimated Annual Responses: 8,335.

Total Estimated Annual Burden: 755.

Total Estimated Annual Burden Hour Dollar Cost Equivalent: $64,841.

FRA informs all interested parties that it may not conduct or sponsor, and a respondent is not required to respond to, a collection of information that does not display a currently valid OMB control number.

(Authority: 44 U.S.C. 3501-3520)

Christopher S. Van Nostrand,
Acting Deputy Chief Counsel.

[FR Doc. 2023-16890 Filed 8-7-23; 8:45 am]

BILLING CODE 4910-06-P